DEPARTMENT OF LABOR

Employment and Training Administration

[TA-W-50,977]

Wabash Technologies, Inc., Automotive Business Unit, Huntington, IN; Notice of Termination of Negative Determination Regarding Eligibility To Apply for Worker Adjustment Assistance

In accordance with section 223 of the Trade Act of 1974 (19 U.S.C. 2273) the Department of Labor issued a Negative Determination Regarding Eligibility to Apply for Worker Adjustment Assistance on April 8, 2003, applicable to workers of Wabash Technologies, Inc., Automotive Business Unit, located in Huntington, Indiana. The notice was published in the Federal Register on April 24, 2003 (68 FR 20177).

At the request of the State agency, the Department reviewed the decision for workers of the subject firm. The workers produce engine timing sensors and cam sensors. The review shows that on July 23, 2002, all workers of Wabash Technologies, Inc., Automotive Business Unit, Huntington, Indiana, who were separated from employment on or after May 2, 2001, were certified eligible to apply for worker adjustment assistance under petition number TA-W-41,526. The certification does not expire until July 23, 2004. The certification effectively includes workers at the subject firm producing engine timing sensors and cam sensors.

Consequently, the Department is terminating the negative determination issued to workers of Wabash Technologies, Inc., Automotive Business Unit, located in Huntington, Indiana, under TA-W-50,977.

Signed at Washington, DC, this 9th day of June 2003.
Linda G. Poole,
Certifying Officer, Division of Trade Adjustment Assistance.

[FR Doc. 03-17447 Filed 7-9-03; 8:45 am]

BILLING CODE 4510-30-P